DEPARTMENT OF THE INTERIOR

Bureau of Land Management

[OR-61509; LLOR014000 L58740000 EU0000 LXSS056H0000; OR-60795; LLOR014000 L58740000 EU0000 LXSS057H0000; OR-62015; LLOR014000 L58740000 EU0000 LXSS058H0000; HAG-09-0046]

Notice of Realty Action; Proposed Sale of Public Lands, Oregon

AGENCY: Bureau of Land Management (BLM), Lakeview District, Oregon.

ACTION: Notice of Realty Action.

SUMMARY: This notice announces the sale of four parcels of public land totaling 242.60 acres in Klamath County, Oregon, by modified competitive and direct sale procedures and at not less than appraised market value. The parcels proposed for sale were identified as suitable for disposal in the Klamath Falls Resource Area Resource Management Plan dated June 2, 1995, and as replaced by the revised Klamath Falls Resource Area Resource Management Plan, dated December 30, 2008.

DATES: Submit comments on or before March 20, 2009.

ADDRESSES: Address all written comments to Donald J. Holmstrom, Field Manager, Klamath Falls Resource Area Office, 2795 Anderson Ave. Building 25, Klamath Falls, Oregon 97603. Comments expressed verbally or in electronic format will not be accepted.

FOR FURTHER INFORMATION CONTACT: Mike Bechdolt, Assistant Field Manager, Klamath Falls Resource Area, Lakeview District, Oregon, at (541) 885-4118 or Dan Stewardson, Realty Specialist, Bureau of Land Management, Lakeview District Office, Oregon, at (541) 947-6115.

SUPPLEMENTARY INFORMATION: The following described public land in Klamath County, Oregon, has been examined and found suitable for sale under Sections 203 and 209 of the Federal Land Policy Act of 1976 (90 Stat. 2750, 43 U.S.C. 1713 and 1719). The Klamath Falls Resource Area, Bureau of Land Management is proposing three land sales (four parcels) and is identified as follows:

Parcel I: Happy Hollow Land Sale, (OR-61509)—120 acres. This parcel will be sold by Modified Competitive sealed bid sale at not less than the appraised market value of $29,700.

Willamette Meridian, Oregon

T. 38 S., R.11 E.

Sec. 17, NW¼NE¼ and E½SE¼;

Parcel II: East Stukel Land Sale, (OR-62015)—120 acres. This parcel will be sold by Modified Competitive sealed bid sale at not less than the appraised market value of $17,000.

Willamette Meridian, Oregon

T. 40 S., R.11E

Sec. 9, N½NW¼ and SE¼NW¼;

Parcel III: Nancy Charley Trust Land Sale, (OR-60795)—2.60 acres. This parcel will be sold by direct sale upon acceptance of the direct sale offer and not less than 60-days from February 3, 2009 to resolve inadvertent unauthorized use and occupancy at not less than the appraised market value of $5,932.

Willamette Meridian, Oregon

T. 38 S., R.5 E.

Sec. 13, Lot 9.

In accordance with 43 CFR 2711.3-3(a) (5), direct sale procedures are appropriate to resolve inadvertent unauthorized use or occupancy of the land. Corral facilities, a barn and a shed encroach on public land. These improvements were constructed by the proponent over fifty years ago.

Federal law requires that public land may be sold only to either (1) Citizens of the United States 18 years of age or older; (2) corporations subject to the laws of any State or of the United States; (3) other entities such as an association or a partnership capable of holding land or an interest therein under the laws of the State within which the land is located; or (4) a State, State instrumentality or political subdivision authorized to hold property. Certifications and evidence to this effect will be required of the purchaser prior to issuance of a patent.

The following rights, reservations, and conditions will be included in the patents that may be issued as to each of the above described parcels of land:

1. A reservation to the United States for a right-of-way for ditches and canals constructed by the authority of the United States. Act of August 30, 1890 (43 U.S.C. 945).

2. A reservation to the United States for all oil, gas and geothermal resources in the land in accordance with Section 209 of the Federal Land Policy and Management Act of 1976 (43 U.S.C. 1719).

3. The patent will include a notice and indemnification statement under the Comprehensive Environmental Response, Compensation and Liability Act. All parcels are subject to the requirements of section 120(h) (42 U.S.C. Section 9620) holding the United States harmless from any release of hazardous materials that may have occurred as a result of the unauthorized use of the property by other parties. No Warranty of any kind, express or implied, is given by the United States as to the title, physical condition or potential uses of the parcel of land proposed for sale.

4. All the parcels are subject to valid existing rights.

The mineral interests being offered for conveyance have no known mineral value. A successful bid constitutes an application for conveyance of the mineral interest. In addition to the full purchase price, a nonrefundable filing fee of $50 will be required by the successful bidder for purchase of the mineral interests to be conveyed simultaneously with the sale of the land with the exception of all leasable minerals, including oil, gas and geothermal interests, which will be reserved to the United States in accordance with Section 209 of the Federal Land Policy and Management Act of 1976 (43 U.S.C. 1719).

On February 3, 2009, the above described lands will be segregated from appropriation under the public land laws, including the mining laws, except the sale provisions of the Federal Land Policy and Management Act of 1976 (43 U.S.C. 1719). Until completion of the sales, the Bureau of Land Management is no longer accepting land use applications affecting the identified public lands, except applications for the amendment of previously filed right-of-way applications or existing authorizations to increase the term of existing grants in accordance with 43 CFR 2807.15 and 2886.15. The effect of segregation will terminate upon issuance of a patent, upon publication in the Federal Register of a termination of the segregation, or March 3, 2011, unless extended by the Bureau of Land Management, State Director, in accordance with 43 CFR 2711.1-2(d) prior to the termination date.

All bids must be submitted to the Klamath Falls Resource Area Office, 2795 Anderson Ave., Building #25, Klamath Falls, Oregon 97603, by no later than 4:30 p.m. PST, on April 8, 2009. The bids for Parcels I and II will be opened at 10 a.m. PST, on April 22, 2009, at the Klamath Falls Resource Area Office, 2795 Anderson Ave., Building #25, Klamath Falls, Oregon 97603.

Based upon receipt of valid bids, the Bureau of Land Management will offer the adjacent landowner the right to meet the highest bid and purchase the lands at an amount equal to the highest bid price, which must be not less than the market value as determined by the Secretary. If the adjacent landowner declines this offer, the bidder with the highest sealed bid price will be declared the high bidder. The outside of the bid envelope must be clearly marked with either “BLM Land Sale Parcel I—OR-61509” or “BLM Land Sale Parcel II—OR-62015,” and contain a statement showing the total amount of the bid, the bid opening date and the name, mailing address, and phone number of the entity making the bid. Bids must not be less than the appraised market value. Each sealed bid shall be accompanied by a certified check, postal money order, bank draft, or cashier's check made payable to the DOI-Bureau of Land Management, for not less than 20 percent of the amount of the bid. The successful bidder shall submit the remainder of the full bid price prior to the expiration of 180 days from the date of the sale. The successful bidder may exercise the option to pay in full at any time during this period. Failure to submit the full bid price, prior to the 180th day following the sale shall result in cancellation of the sale and the deposit shall be forfeited.

Public Comments: On or before March 20, 2009, any person may submit written comments regarding the proposed sales to the Bureau of Land Management Klamath Falls Resource Area Office, 2795 Anderson Ave., Building #25, Klamath Falls, Oregon 97603.

Comments, including names, street addresses, and other contact information of respondents, will be available for public review. Individual respondents may request confidentiality. If you wish to request that the Bureau of Land Management consider withholding your name, street address, and other contact information (such as Internet address, FAX or phone number) from public review or from disclosure under the Freedom of Information Act, you must state this prominently at the beginning of your comment. The Bureau of Land Management will honor requests for confidentiality on a case-by-case basis to the extent allowed by law. The Bureau of Land Management will make available for public inspection in their entirety all submissions from organizations or businesses, and from individuals identifying themselves as representatives or officials of organizations or businesses.

Detailed information concerning these land sales, including the appraisals, planning and environmental documents, and mineral report is available for review at the Bureau of Land Management, Klamath Falls Resource Area, Bureau of Land Management, 2795 Anderson Ave., Building 25, Klamath Falls, Oregon 97603, during business hours. Inquires may also be directed to Mike Bechdolt, (541) 885-4118, Assistant Field Manager, Klamath Falls Field Office, at the above address or Dan Stewardson, Realty Specialist, Bureau of Land Management, Lakeview District Office, (541) 947-6115. Objections will be reviewed by the Bureau of Land Management Lakeview District Manager who may sustain, vacate, or modify this realty action. In the absence of any objections, this proposal will become the final determination of the Department of the Interior.

Authority: 43 CFR 2711.1-2.

Dated: January 15, 2009.
Donald J. Holmstrom,
Field Manager, Klamath Falls Resource Area.

[FR Doc. E9-2262 Filed 2-2-09; 8:45 am]

BILLING CODE 4310-33-P